DEPARTMENT OF HEALTH AND HUMAN SERVICES

Centers for Disease Control and Prevention

Advisory Council for the Elimination of Tuberculosis Meeting (ACET)

AGENCY: Centers for Disease Control and Prevention (CDC), Department of Health and Human Services (HHS).

ACTION: Notice of meeting.

SUMMARY: In accordance with the Federal Advisory Committee Act, the CDC announces the following meeting of the Advisory Council for the Elimination of Tuberculosis Meeting (ACET). This meeting is open to the public, limited only by 60 room seating and 100 ports for audio phone lines. Time will be available for public comment. The public is welcome to submit written comments in advance of the meeting. Comments should be submitted in writing by email to the contact person listed below. The deadline for receipt is Monday, August 13, 2018. Persons who desire to make an oral statement, may request it at the time of the public comment period on August 21, 2018 at 3:20 p.m., EDT.

DATES: The meeting will be held on August 21, 2018, 10:00 a.m. to 3:30 p.m., EDT.

ADDRESSES: 8 Corporate Blvd., Building 8, Conference Rooms 1A and 1B, Atlanta, Georgia 30329 and Web conference: 1-877-927-1433 and participant passcode: 12016435 and https://adobeconnect.cdc.gov/r5p8l2tytpq/.

FOR FURTHER INFORMATION CONTACT: Margie Scott-Cseh, Committee Management Specialist, CDC, 1600 Clifton Road NE, Mailstop: E-07, Atlanta, Georgia 30329-4018, telephone (404) 639-8317; zkr7@cdc.gov.

SUPPLEMENTARY INFORMATION:

Purpose: This Council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters To Be Considered: The agenda will include discussions on (1) Isoniazid-Rifapentine TB Prevention in HIV-infected Persons Study; (2) Division of HIV/AIDS Prevention's Strategy of Adopting HIV Treatment as Prevention; (3) Update on Division of Tuberculosis Elimination's Concept of Operations for Latent Tuberculosis Infection Surveillance; and (4) Update from ACET workgroups. Agenda items are subject to change as priorities dictate.

The Director, Management Analysis and Services Office, has been delegated the authority to sign Federal Register notices pertaining to announcements of meetings and other committee management activities, for both the Centers for Disease Control and Prevention and the Agency for Toxic Substances and Disease Registry.

Elaine Baker,
Director, Management Analysis and Services Office, Centers for Disease Control and Prevention.

[FR Doc. 2018-14755 Filed 7-10-18; 8:45 am]

BILLING CODE 4163-18-P